DEPARTMENT OF EDUCATION

National Awards Program for Effective Teacher Preparation; Notice Inviting Applications for New Awards for Fiscal Year (FY) 2000

Purpose of Program: The National Awards Program for Effective Teacher Preparation recognizes entities with effective preparation programs for elementary school teachers or secondary school mathematics teachers that lead to improved student learning. The FY 2000 competition, the first competition under this new awards program, focuses on entities that meet the eligibility and selection criteria for this program, as published elsewhere in this issue of the Federal Register.

Eligible Applicants: Institutions of higher education and other entities in the States (including the District of Columbia, Puerto Rico, and the outlying areas) that prepare elementary teachers, or middle or high school mathematics teachers, for initial certification, including alternative certification.

Applications Available: April 7, 2000.

Deadline for Transmittal of Applications: July 3, 2000.

Deadline for Intergovernmental Review: September 1, 2000.

Funds Available: None, although the Department intends to pay the cost of having successful applicants attend a national ceremony at which the awardees will be publicly honored and recognized. The Department also intends to pay some of the costs associated with having successful applicants make presentations on their teacher preparation programs at regional or national conferences.

Estimated Number of Awards: Up to 5.

Note: The Department is not bound by any estimates in this notice.

Page Limit: Applicants are to address the selection criteria that apply to this competition in the application narrative of the application. The application narrative must be limited to the equivalent of no more than 30 pages, plus a one-page abstract, using the following standards:

• A page is 8.5″ x 11″, one-sided only, with 1″ margins at the top, bottom, and both sides.

• Double space (no more than three lines per vertical inch) all text in the application narrative, including titles, headings, footnotes, quotations, references, and captions, as well as all text in charts, tables, figures, and graphs.

• Use a font that is either 12-point or larger.

Our reviewers will not read any pages of your application that—

• Exceed the page limit if you apply these standards; or

• Exceed the equivalent of the page limit if you apply other standards.

Eligibility, Application, and Selection Criteria: The eligibility, application, and selection criteria, and selection procedures, in the notice of eligibility and selection criteria for this program, as published elsewhere in this issue of the Federal Register, apply to this competition.

For Applications and Further Information Contact: Sharon Horn, Office of Educational Research and Improvement, U.S. Department of Education, 555 New Jersey Avenue, NW., room 506E, Washington, DC 20208-5644. Telephone: (202) 219-2203 or FAX to (202) 219-2198. Inquiries also may be sent by e-mail to: sharon_horn@ed.gov

If you use a telecommunications device for the deaf (TDD), you may call the Federal Information Relay Service (FIRS) at 1-800-877-8339.

Individuals with disabilities may obtain this document in an alternate format (e.g., Braille, large print, audiotape, or computer diskette) on request to the contact person listed in this section.

Electronic Access to This Document

You may review this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html.

Program Authority: 20 U.S.C. 8001.

Dated: April 6, 2000.
C. Kent McGuire,
Assistant Secretary for Educational Research and Improvement.

[FR Doc. 00-8934 Filed 4-6-00; 1:51 pm]

BILLING CODE 4000-01-U